DEPARTMENT OF COMMERCE

International Trade Administration

Antidumping or Countervailing Duty Order, Finding, or Suspended Investigation; Opportunity To Request Administrative Review

Correction

In notice document 2019-13985 beginning on page 31295 in the issue of Monday, July 1, 2019, make the following correction:

On page 31296, in the table, under the Antidumping Duty Proceedings heading, the sixth entry “In-Shell Pistachios A-507-502” should read “IRAN: In-Shell Pistachios A-507-502”.

[FR Doc. C1-2019-13985 Filed 10-1-19; 8:45 am]

BILLING CODE 1301-00-D